DEPARTMENT OF ENERGY

Federal Energy Regulatory Commission

[Project No. 2816-050; Project No. 12766-007]

North Hartland, LLC; Green Mountain Power Corporation; Notice Soliciting Scoping Comments

Take notice that the following hydroelectric applications have been filed with Commission and are available for public inspection:

a. Type of Application: New Major License (2816-050), New License for Transmission Line Project (12766-007).

b. Project Nos.: 2816-050 and 12766-007.

c. Dates filed: November 26, 2019 (P-2816-050), November 22, 2019 (P-12766-007).

d. Applicants: North Hartland, LLC (North Hartland) (P-2816-050), Green Mountain Power Corporation (Green Mountain Power) (P-12766-007).

e. Names of Projects: North Hartland Hydroelectric Project (P-2816-050), Clay Hill Road Line 66 Transmission Project (P-12766-007).

f. Location: The North Hartland Hydroelectric Project (North Hartland Project) is located on the Ottauquechee River in Windsor County, Vermont. The North Hartland Project occupies 20.8 acres of land managed by the U.S. Army Corps of Engineers (Corps). The Clay Hill Road Line 66 Transmission Project (Clay Hill Project) is located along Clay Hill Road in Windsor County, Vermont. The Clay Hill Project does not occupy any federal land.

g. Filed Pursuant to: Federal Power Act, 16 U.S.C. 791(a)-825(r).

h. Applicant Contacts: Blackstone Hydroelectric Project—Andrew J. Locke, President, Essex Hydro Associates, LLC, 55 Union Street, Boston, MA 02108; Phone at (617) 367-0032, or email at alocke@essexhydro.com.

Clay Hill Project—John Greenan, Green Mountain Power Corporation, 2152 Post Road, Rutland, VT 05701; Phone at (802) 770-2195, or email at John.Greenan@greenmountainpower.com.

i. FERC Contact: Bill Connelly, (202) 502-8587 or william.connelly@ferc.gov.

j. Deadline for filing scoping comments: June 28, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. All filings must clearly identify the project name and docket number on the first page: North Hartland Hydroelectric Project (P-2816-050) and/or Clay Hill Road Line 66 Transmission Project (P-12766-007).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. Project Descriptions:

North Hartland Project

The existing North Hartland Project consists of: (1) A steel-lined intake structure in the Corps' North Hartland Dam that is equipped with trashracks with 2-inch clear bar spacing; (2) a 470-foot-long, 12-foot-diameter steel penstock that provides flow to a 4.0-megawatt (MW) adjustable blade, vertical shaft turbine-generator unit located inside of a 59-foot-long, 40-foot-wide concrete powerhouse; (3) a 12-foot-diameter bypass conduit that branches off of the 12-foot-diameter penstock about 100 feet before the powerhouse, and that empties into a 60-foot-long concrete-lined channel through a bypass control gate; (4) a 30-inch-diameter steel penstock that branches off of the 12-foot-diamater bypass conduit about 50 feet upstream of the bypass control gate, and that provides flow to a 0.1375-MW fixed geometry, horizontal pump turbine-generator unit located on a raised platform outside of the southern wall of the powerhouse; (5) a 400-foot-long, 50 to 150-foot-wide tailrace channel; (6) a transmission line that comprises an approximately 600-foot-long, 12.5 kilovolt (kV) underground segment, and a 4,000-foot-long, 12.5-kV overhead segment that connect the generators to the Clay Hill Project; and (9) appurtenant facilities.

North Hartland proposes to release the following minimum and maximum flows, respectively, to the downstream reach: (1) 60 and 700 cfs from October 1 through March 31; (2) 160 and 835 cfs from April 1 through April 31; (3) 160 and 550 cfs from May 1 through May 31; (4) 140 and 450 cfs from June 1 through June 30; and (5) 60 and 300 cfs from July 1 through September 30.

Clay Hill Project

The existing Clay Hill Project consists of: (1) A 2.3-mile-long, 12.5-kV, three-phase electrical line mounted on top of Green Mountain Power's regional distribution line (Line 66) along Clay Hill Road from Pole 115 to 62x; and (2) appurtenant facilities. The project serves as a primary transmission line for the North Hartland Project. Green Mountain Power is not proposing any changes to project facilities or operation.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-2816 or P-12766). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

n. You may also register online at http://www.ferc.gov/docs-filing/esubscription.asp to be notified via email of new filings and issuances related to this or other pending projects. For assistance, contact FERC Online Support.

o. Scoping Process: Commission staff intend to prepare a single Environmental Assessment (EA) for the projects in accordance with the National Environmental Policy Act. The EA will consider both site-specific and cumulative environmental impacts and reasonable alternatives to the proposed action. At this time, we do not anticipate holding on-site public or agency scoping meetings. Instead, we are soliciting your comments and suggestions on the preliminary list of issues and alternatives to be addressed in the EA, as described in scoping document 1 (SD1), issued May 29, 2020.

Copies of the SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: May 29, 2020.
Kimberly D. Bose,
Secretary.

[FR Doc. 2020-12050 Filed 6-3-20; 8:45 am]

BILLING CODE 6717-01-P